DEPARTMENT OF COMMERCE

National Oceanic and Atmospheric Administration

50 CFR Part 223

[Docket No. 101126590-0589-01]

RIN 0648-XZ59

Endangered and Threatened Species; Proposed Threatened Status for Subspecies of the Ringed Seal

AGENCY: National Marine Fisheries Service (NMFS), National Oceanic and Atmospheric Administration (NOAA), Commerce.

ACTION: Notice of public hearings.

SUMMARY: On December 10, 2010, we, NMFS, published a proposed rule to list the Arctic (Phoca hispida hispida), Okhotsk (Phoca hispida ochotensis), Baltic (Phoca hispida botnica), and Ladoga (Phoca hispida ladogensis) subspecies of the ringed seal as threatened under the Endangered Species Act of 1973, as amended (ESA). As part of that proposal, we announced a public comment period to end on February 8, 2011, and then extended the comment period to March 25, 2011. NMFS has received requests for public hearings on this issue. In response, we announce that public hearings will be held at three locations in Alaska (Anchorage, Barrow, and Nome) to provide additional opportunities and formats to receive public input.

DATES: A hearing will be held on March 7, 2011, from 6:30 p.m. to 8:30 p.m. in Anchorage, and on March 22, 2011, from 7 p.m. to 9:30 p.m. in Barrow, AK. The date and time for a hearing in Nome will be announced in a forthcoming notice in the Federal Register. As previously noted, we will consider written comments received on or before March 25, 2011.

ADDRESSES: The March 7, 2011, hearing will be held at the Egan Center (Lower Level), 555 West Fifth Avenue, Anchorage, AK. The March 22, 2011, hearing will be held at the Iñupiat Heritage Center, 5421 North Star Street, Barrow, AK. As noted above, we will announce the address for a hearing in Nome in a forthcoming notice in the Federal Register.

Send written comments to Kaja Brix, Assistant Regional Administrator, Protected Resources Division, Alaska Region, NMFS, Attn: Ellen Sebastian. You may submit comments, identified by RIN 0648-XZ59, by any one of the following methods:

• Electronic Submissions: Submit all electronic public comments via the Federal eRulemaking Portal at http://www.regulations.gov.

• Mail: P.O. Box 21668, Juneau, AK 99802.

• Fax: (907) 586-7557.

• Hand delivery to the Federal Building: 709 West 9th Street, Room 420A, Juneau, AK.

All comments received are a part of the public record. Comments will generally be posted without change. All Personal Identifying Information (for example, name, address, etc.) voluntarily submitted by the commenter may be publicly accessible. Do not submit Confidential Business Information or otherwise sensitive or protected information.

We will accept anonymous comments (enter N/A in the required fields, if you wish to remain anonymous). You may submit attachments to electronic comments in Microsoft Word, Excel, WordPerfect, or Adobe PDF file formats only.

The proposed rule, status review report, and other materials relating to this proposal can be found on the Alaska Region Web site at: http://alaskafisheries.noaa.gov/.

FOR FURTHER INFORMATION CONTACT: Tamara Olson, NMFS Alaska Region, (907) 271-5006; Kaja Brix, NMFS Alaska Region, (907) 586-7235; or Marta Nammack, Office of Protected Resources, Silver Spring, MD (301) 713-1401.

SUPPLEMENTARY INFORMATION:

Background

On December 10, 2010 (75 FR 77476), we published a proposed rule to list the Arctic, Okhotsk, Baltic, and Ladoga subspecies of the ringed seal as threatened under the ESA. Based on the status of these subspecies, we also proposed protective regulations pursuant to section 4(d) of the ESA for these subspecies to include all of the prohibitions in section 9(a)(1) of the ESA. The original due date for comments on these proposed actions (February 8, 2011) was extended to March 25, 2011 (76 FR 6754; February 8, 2011).

Public Hearings

Joint Commerce-Interior ESA implementing regulations state that the Secretary shall promptly hold at least one public hearing if any person requests one within 45 days of publication of a proposed regulation to list a species or to designate critical habitat (see 50 CFR 424.16(c)(3)). In response to requests from various parties to hold public hearings in a number of locations in Alaska, we will hold three public hearings: One in Anchorage, one in Barrow, and one in Nome. We will accept oral and written comments on both the proposed rule for ringed seals and the proposed rule for bearded seals (75 FR 77496; December 10, 2010) during these hearings.

People wishing to make an oral statement for the record at a public hearing are encouraged to provide a written copy of their statement and present it to us at the hearing. In the event that attendance at the public hearings is large, the time allotted for oral statements may be limited. Oral and written statements receive equal consideration. There are no limits on the length of written comments submitted to us.

Authority: 16 U.S.C. 1533 et seq.

Dated: February 15, 2011.
Helen Golde,
Acting Director, Office of Protected Resources.

[FR Doc. 2011-3883 Filed 2-16-11; 4:15 pm]

BILLING CODE 3510-22-P